DEPARTMENT OF THE INTERIOR

National Park Service

[NPS-WASO-NAGPRA-NPS0031328; PPWOCRADN0-PCU00RP14.R50000]

Notice of Intent To Repatriate Cultural Items: Museum of Riverside, Riverside, CA

AGENCY: National Park Service, Interior.

ACTION: Notice.

SUMMARY: The Museum of Riverside, in consultation with the appropriate Indian Tribes or Native Hawaiian organizations, has determined that the cultural items listed in this notice meet the definition of sacred objects. Lineal descendants or representatives of any Indian Tribe or Native Hawaiian organization not identified in this notice that wish to claim these cultural items should submit a written request to the Museum of Riverside. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Museum of Riverside at the address in this notice by February 22, 2021.

ADDRESSES: Robyn G. Peterson, Museum Director, Ph.D., Museum of Riverside, 3580 Mission Inn Avenue, Riverside, CA 92501, telephone (951) 826-5792, email rpeterson@riversideca.gov.

SUPPLEMENTARY INFORMATION: Notice is here given in accordance with the Native American Graves Protection and Repatriation Act (NAGPRA), 25 U.S.C. 3005, of the intent to repatriate cultural items under the control of the Museum of Riverside, Riverside, CA, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1925, 20 Hupa sacred items affiliated with the Hoopa Valley Tribe were donated to the Museum of Riverside as part of the institution's founding. In 1951 and 1952, three additional Hupa sacred objects were donated by two separate individuals. None of the donors provided the Museum with information pertaining to the objects' provenience. According to the donor records, the provenance of 14 (or 61%) of the Museum's Hupa sacred objects was the Brizard Collection. This collection is known to the Hoopa Valley Tribe. The 23 objects include: One string bag, four dance aprons, two dance baskets, two dentalium strings, one dress, four hair ornaments, one headband, four headdresses, one necklace, one pipe, and two purses.

The Museum has determined the identity and cultural affiliation of the 23 objects in consultation with Hoopa Valley Tribe representatives Cutcha Risling Baldy (member), Keduescha Lara-Colegrove (Tribal Historic Preservation Officer), Byron Nelson, Jr. (Chairman), and Sillischitawn S. Jackson (Curator, Hoopa Tribal Museum).

Determinations Made by the Museum of Riverside

Officials of the Museum of Riverside have determined that:

• Pursuant to 25 U.S.C. 3001(3)(C), the 23 cultural items described above are specific ceremonial objects needed by traditional Native American religious leaders for the practice of traditional Native American religions by their present-day adherents.

• Pursuant to 25 U.S.C. 3001(2), there is a relationship of shared group identity that can be reasonably traced between the sacred objects and the Hoopa Valley Tribe, California.

Additional Requestors and Disposition

Lineal descendants or representatives of any Indian Tribe or Native Hawaiian organization not identified in this notice that wish to claim these cultural items should submit a written request with information in support of the claim to Robyn G. Peterson, Ph.D., Museum Director, Museum of Riverside, 3580 Mission Inn Avenue, Riverside, CA 92501, telephone (951) 826-5792, email rpeterson@riversideca.gov, by February 22, 2021. After that date, if no additional claimants have come forward, transfer of ownership of the sacred objects to the Hoopa Valley Tribe, California may proceed.

The Museum of Riverside is responsible for notifying the Hoopa Valley Tribe, California that this notice has been published.

Dated: December 23, 2020.
Melanie O'Brien,
Manager, National NAGPRA Program.

[FR Doc. 2021-01338 Filed 1-21-21; 8:45 am]

BILLING CODE 4312-52-P